DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of eight individuals and 69 entities whose property and interests in property have been blocked pursuant to the Foreign Narcotics Kingpin Designation Act (Kingpin Act), 21 U.S.C. 1901-1908, 8 U.S.C. 1182.

DATES: The designations by the Acting Director of OFAC of the eight individuals and 69 entities identified in this notice pursuant to section 805(b) of the Kingpin Act are effective on May 5, 2016.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Kingpin Act provides that the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 5, 2016, the Acting Director of OFAC designated the following eight individuals and 69 entities whose property and interests in property are blocked pursuant to section 805(b) of the Kingpin Act.

Individuals

1. CASTRO MONTOTO, Norman Douglas; DOB 06 Jul 1962; citizen Panama; Passport 1871296 (Panama) (individual) [SDNTK] (Linked To: WAKED MONEY LAUNDERING ORGANIZATION). Designated for materially assisting in, or providing financial or technological support for or to, or providing goods or services in support of, the international narcotics trafficking activities of the WAKED MONEY LAUNDERING ORGANIZATION and/or Nidal Ahmed WAKED HATUM, and/or being controlled or directed by, or acting for or on behalf of, the WAKED MONEY LAUNDERING ORGANIZATION and/or Nidal Ahmed WAKED HATUM, and therefore meets the criteria for designation pursuant to sections 805(b)(2) and/or (3) of the Kingpin Act, 21 U.S.C. 1904(b)(2) and/or (3).

2. TOUZARD ROMO, Lucia, Ave. Samuel Lewis y Calle 54, Urb. Obarrio Torre Generali, piso 11, Apartado 0831-02-513, Panama, Panama; DOB 24 Jan 1971; POB Panama; citizen Panama; Passport 0159068 (Panama) (individual) [SDNTK] (Linked To: WAKED MONEY LAUNDERING ORGANIZATION). Designated for materially assisting in, or providing financial or technological support for or to, or providing goods or services in support of, the international narcotics trafficking activities of the WAKED MONEY LAUNDERING ORGANIZATION and/or Abdul Mohamed WAKED FARES, and/or being controlled or directed by, or acting for or on behalf of, Abdul Mohamed WAKED FARES, Mohamed Abdo WAKED DARWICH, and/or GRUPO WISA, S.A., and therefore meets the criteria for designation pursuant to sections 805(b)(2) and/or (3) of the Kingpin Act, 21 U.S.C. 1904(b)(2) and/or (3).

3. WAKED DARWICH, Mohamed Abdo (a.k.a. WAKED DARWICH, Hamudi); DOB 30 Aug 1977; POB Colombia; citizen Panama; Cedula No. N-19-828 (Panama) (individual) [SDNTK] (Linked To: WAKED MONEY LAUNDERING ORGANIZATION). Designated for being controlled or directed by, or acting for or on behalf of, the WAKED MONEY LAUNDERING ORGANIZATION and Abdul Mohamed WAKED FARES, and therefore meets the criteria for designation pursuant to section 805(b)(3) of the Kingpin Act, 21 U.S.C. 1904(b)(3).

4. WAKED FARES, Abdul Mohamed; DOB 19 Dec 1949; alt. DOB 09 Dec 1949; POB Kamed El Louz, Lebanon; citizen Panama; alt. citizen Lebanon; alt. citizen Colombia; Cedula No. N-19-804 (Panama); Passport 1640816 (Panama) (individual) [SDNTK] (Linked To: WAKED MONEY LAUNDERING ORGANIZATION). Designated for playing a significant role in international narcotics trafficking, and therefore meets the criteria for designation pursuant to section 805(b)(4) of the Kingpin Act, 21 U.S.C. 1904(b)(4).

5. WAKED HATUM, Jalal Ahmed (a.k.a. WAKED HATOUM, Jalal); DOB 18 Oct 1976; POB Colombia; citizen Panama; alt. citizen Colombia; Cedula No. 3-700-2344 (Panama); Passport 0091672 (Panama); alt. Passport 1426177 (Panama); alt. Passport 1706460 (Panama) (individual) [SDNTK] (Linked To: WAKED MONEY LAUNDERING ORGANIZATION). Designated for materially assisting in, or providing financial or technological support for or to, or providing goods or services in support of, the international narcotics trafficking activities of the WAKED MONEY LAUNDERING ORGANIZATION and/or Nidal Ahmed WAKED HATUM, and/or being controlled or directed by, or acting for or on behalf of, the WAKED MONEY LAUNDERING ORGANIZATION and/or Nidal Ahmed WAKED HATUM, and therefore meets the criteria for designation pursuant to sections 805(b)(2) and/or (3) of the Kingpin Act, 21 U.S.C. 1904(b)(2) and/or (3).

6. WAKED HATUM, Ali; DOB 28 Aug 1972; Cedula No. N-19-612 (Panama) (individual) [SDNTK] (Linked To: WAKED MONEY LAUNDERING ORGANIZATION). Designated for materially assisting in, or providing financial or technological support for or to, or providing goods or services in support of, the international narcotics trafficking activities of the WAKED MONEY LAUNDERING ORGANIZATION and/or Nidal Ahmed WAKED HATUM, and/or being controlled or directed by, or acting for or on behalf of, the WAKED MONEY LAUNDERING ORGANIZATION and/or Nidal Ahmed WAKED HATUM, and therefore meets the criteria for designation pursuant to sections 805(b)(2) and/or (3) of the Kingpin Act, 21 U.S.C. 1904(b)(2) and/or (3).

7. WAKED HATUM, Gazy (a.k.a. WAKED HATUM, Ghazi); DOB 17 Sep 1973; POB Colombia; citizen Colombia; Cedula No. N-19624 (Panama) (individual) [SDNTK] (Linked To: WAKED MONEY LAUNDERING ORGANIZATION). Designated for materially assisting in, or providing financial or technological support for or to, or providing goods or services in support of, the international narcotics trafficking activities of the WAKED MONEY LAUNDERING ORGANIZATION and/or Nidal Ahmed WAKED HATUM, and/or being controlled or directed by, or acting for or on behalf of, the WAKED MONEY LAUNDERING ORGANIZATION and/or Nidal Ahmed WAKED HATUM, and therefore meets the criteria for designation pursuant to sections 805(b)(2) and/or (3) of the Kingpin Act, 21 U.S.C. 1904(b)(2) and/or (3).

8. WAKED HATUM, Nidal Ahmed (a.k.a. WAKED HATOUM, Nidal); DOB 26 Jul 1971; alt. DOB 16 Jul 1971; alt. DOB 02 Aug 1971; POB Barranquilla, Colombia; citizen Spain; alt. citizen Colombia; alt. citizen Panama; Cedula No. N-19-680 (Panama); Passport 1000272479 (Panama); alt. Passport AAI105713 (Spain); National ID No. 0662764600 (Spain); alt. National ID No. A06627646N (Spain) (individual) [SDNTK] (Linked To: WAKED MONEY LAUNDERING ORGANIZATION). Designated for playing a significant role in international narcotics trafficking, and therefore meets the criteria for designation pursuant to section 805(b)(4) of the Kingpin Act, 21 U.S.C. 1904(b)(4).

Entities

1. A.M. WAKED E HIJOS, S.A., Panama; RUC #26961-10-226532 (Panama) [SDNTK]. Designated for being owned, controlled, or directed by Abdul Mohamed WAKED FARES, and therefore meets the criteria for designation pursuant to section 805(b)(3) of the Kingpin Act, 21 U.S.C. 1904(b)(3).

2. ABIF INVESTMENT, S.A., Panama; RUC #2022799-1-743641 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

3. ADJUSTMENT BUSINESS CORP., Panama; RUC #264715-1-405109 (Panama) [SDNTK]. Designated for being owned, controlled, or directed by Nidal Ahmed WAKED HATUM and/or Gazy WAKED HATUM, and therefore meets the criteria for designation pursuant to section 805(b)(3) of the Kingpin Act, 21 U.S.C. 1904(b)(3).

4. ADMINISTRACION MILLENIUM PLAZA, S.A., Panama; RUC #1050723-1-547544 (Panama) [SDNTK]. Designated for being owned, controlled, or directed by Nidal Ahmed WAKED HATUM, Gazy WAKED HATUM, Jalal Ahmed WAKED HATUM, and/or Ali WAKED HATUM, and therefore meets the criteria for designation pursuant to section 805(b)(3) of the Kingpin Act, 21 U.S.C. 1904(b)(3).

5. ALBORADA GARDENS, S.A., Panama; RUC #1992533-1-738897 (Panama) [SDNTK]. Designated for being owned, controlled, or directed by Nidal Ahmed WAKED HATUM, Gazy WAKED HATUM, and/or Ali WAKED HATUM, and therefore meets the criteria for designation pursuant to section 805(b)(3) of the Kingpin Act, 21 U.S.C. 1904(b)(3).

6. ALBORADA S.A., Panama; RUC #63628-51-355574 (Panama) [SDNTK]. Designated for being owned, controlled, or directed by Nidal Ahmed WAKED HATUM and/or Ali WAKED HATUM, and therefore meets the criteria for designation pursuant to section 805(b)(3) of the Kingpin Act, 21 U.S.C. 1904(b)(3).

7. BIENES RAICES DEL CARIBE, S.A., Panama; RUC #72212-1-374180 (Panama) [SDNTK]. Designated for being owned, controlled, or directed by Nidal Ahmed WAKED HATUM and/or Ali WAKED HATUM, and therefore meets the criteria for designation pursuant to section 805(b)(3) of the Kingpin Act, 21 U.S.C. 1904(b)(3).

8. CACIQUE 1 S.A., Panama; RUC #155598483-2-2015 (Panama) [SDNTK]. Designated for being owned, controlled, or directed by Jalal Ahmed WAKED HATUM and/or Gazy WAKED HATUM, and therefore meets the criteria for designation pursuant to section 805(b)(3) of the Kingpin Act, 21 U.S.C. 1904(b)(3).

9. CORPORACION MARITIMA DE COLON, S.A., Panama; RUC #44053-63-293930 (Panama); alt. RUC #44503-63-293930 (Panama) [SDNTK]. Designated for being owned, controlled, or directed by Nidal Ahmed WAKED HATUM and/or Gazy WAKED HATUM, and therefore meets the criteria for designation pursuant to section 805(b)(3) of the Kingpin Act, 21 U.S.C. 1904(b)(3).

10. DESARROLLO URBANISTICO DEL ATLANTICO, S.A. (a.k.a. D.U.A.S.A.), Panama; RUC #30564-13-239335 (Panama) [SDNTK]. Designated for being owned, controlled, or directed by Nidal Ahmed WAKED HATUM, and therefore meets the criteria for designation pursuant to section 805(b)(3) of the Kingpin Act, 21 U.S.C. 1904(b)(3).

11. DISTRIBUIDORA MARBELLA, S.A., Panama; RUC #11542-26-115837 (Panama) [SDNTK]. Designated for being owned, controlled, or directed by Abdul Mohamed WAKED FARES and/or Ali WAKED HATUM, and therefore meets the criteria for designation pursuant to section 805(b)(3) of the Kingpin Act, 21 U.S.C. 1904(b)(3).

12. FELIX B. MADURO S.A., Panama; RUC #811226-1-498041 (Panama); alt. RUC #78-273-13798 (Panama) [SDNTK]. Designated for being owned, controlled, or directed by GRUPO WISA, S.A., Abdul Mohamed WAKED FARES, and/or Mohamed Abdo WAKED DARWICH, and therefore meets the criteria for designation pursuant to section 805(b)(3) of the Kingpin Act, 21 U.S.C. 1904(b)(3).

13. FOOD COURT PLAZA MILENIO, S.A., Panama; RUC #1103474-1-560398 (Panama) [SDNTK]. Designated for being owned, controlled, or directed by Nidal Ahmed WAKED HATUM, Gazy WAKED HATUM, Jalal Ahmed WAKED HATUM, and/or Ali WAKED HATUM, and therefore meets the criteria for designation pursuant to section 805(b)(3) of the Kingpin Act, 21 U.S.C. 1904(b)(3).

14. FRANQUICIAS MULTIPLES S.A., Panama; RUC #1874692-1-717842 (Panama) [SDNTK]. Designated for being owned, controlled, or directed by Nidal Ahmed WAKED HATUM, Gazy WAKED HATUM, Jalal Ahmed WAKED HATUM, and/or Ali WAKED HATUM, and therefore meets the criteria for designation pursuant to section 805(b)(3) of the Kingpin Act, 21 U.S.C. 1904(b)(3).

15. GLENDOR FINANCE S.A., Panama; RUC #2041747-1-746484 (Panama) [SDNTK]. Designated for being owned, controlled, or directed by Mohamed Abdo WAKED DARWICH, and therefore meets the criteria for designation pursuant to section 805(b)(3) of the Kingpin Act, 21 U.S.C. 1904(b)(3).

16. GRUPO CEDRO PANAMA S.A.; RUC #2039933-1-746238 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

17. GRUPO CIMA PANAMA, S.A., Calle 15 Y Avenida Roosevelt, Colon Free Zone, Panama; PO Box 3294, Panama City, Panama; RUC #408392-1-425571 (Panama); alt. RUC #425571-1-408392 (Panama) [SDNTK]. Designated for being owned, controlled, or directed by Mohamed Abdo WAKED DARWICH, and therefore meets the criteria for designation pursuant to section 805(b)(3) of the Kingpin Act, 21 U.S.C. 1904(b)(3).

18. GRUPO LA RIVIERA PANAMA, S.A., Panama; RUC #2038708-1-745998 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

19. HACIENDA PAULISTA, S.A., Panama; RUC #466985-1-433708 (Panama) [SDNTK]. Designated for being owned, controlled, or directed by Gazy WAKED HATUM and/or Ali WAKED HATUM, and therefore meets the criteria for designation pursuant to section 805(b)(3) of the Kingpin Act, 21 U.S.C. 1904(b)(3).

20. HERMANOS WAKED, S.A., Panama; RUC #466694-1-433666 (Panama) [SDNTK]. Designated for being owned, controlled, or directed by Nidal Ahmed WAKED HATUM, Gazy WAKED HATUM, and/or Ali WAKED HATUM, and therefore meets the criteria for designation pursuant to section 805(b)(3) of the Kingpin Act, 21 U.S.C. 1904(b)(3).

21. HN Y N (HOT NEWS Y NEWS) PUBLICIDAD, S.A., Panama; RUC #715153-1-471751 (Panama) [SDNTK]. Designated for being owned, controlled, or directed by Ali WAKED HATUM, and therefore meets the criteria for designation pursuant to section 805(b)(3) of the Kingpin Act, 21 U.S.C. 1904(b)(3).

22. HOTELERA MUNDIAL, S.A., Panama; RUC #22515-10-201355 (Panama) [SDNTK]. Designated for being owned, controlled, or directed by Nidal Ahmed WAKED HATUM and/or Ali WAKED HATUM, and therefore meets the criteria for designation pursuant to section 805(b)(3) of the Kingpin Act, 21 U.S.C. 1904(b)(3).

23. IMPORTADORA MADURO, S.A., Panama; RUC #558-472-101708 (Panama) [SDNTK]. Designated for being owned, controlled, or directed by GRUPO WISA, S.A., Abdul Mohamed WAKED FARES, and/or Mohamed Abdo WAKED DARWICH, and therefore meets the criteria for designation pursuant to section 805(b)(3) of the Kingpin Act, 21 U.S.C. 1904(b)(3).

24. INMOBILIARIA J & M CORP (a.k.a. INMOBILIARIA J AND M CORP), Panama; RUC #884675-1-511785 (Panama) [SDNTK]. Designated for being owned, controlled, or directed by Jalal Ahmed WAKED HATUM, and therefore meets the criteria for designation pursuant to section 805(b)(3) of the Kingpin Act, 21 U.S.C. 1904(b)(3).

25. INMOBILIARIA MULTI-TIENDAS, S.A., Panama; RUC #1008619-1-537654 (Panama) [SDNTK]. Designated for being owned, controlled, or directed by Mohamed Abdo WAKED DARWICH and/or Lucia TOUZARD ROMO, and therefore meets the criteria for designation pursuant to section 805(b)(3) of the Kingpin Act, 21 U.S.C. 1904(b)(3).

26. INMOBILIARIA ROYPAL, S.A., Panama; RUC #46966-79-305611 (Panama) [SDNTK]. Designated for being owned, controlled, or directed by Abdul Mohamed WAKED FARES, Lucia TOUZARD ROMO, and/or Mohamed Abdo WAKED DARWICH, and therefore meets the criteria for designation pursuant to section 805(b)(3) of the Kingpin Act, 21 U.S.C. 1904(b)(3).

27. INVERSIONES DEL ATLANTICO, LTD., Panama; RUC #951371-1-526012 (Panama) [SDNTK]. Designated for being owned, controlled, or directed by Nidal Ahmed WAKED HATUM, Ali WAKED HATUM, Gazy WAKED HATUM, and/or Jalal Ahmed WAKED HATUM, and therefore meets the criteria for designation pursuant to section 805(b)(3) of the Kingpin Act, 21 U.S.C. 1904(b)(3).

28. INVERSIONES LDT, S.A., Panama; RUC #40136-117-278301 (Panama) [SDNTK]. Designated for being owned, controlled, or directed by Ali WAKED HATUM, and therefore meets the criteria for designation pursuant to section 805(b)(3) of the Kingpin Act, 21 U.S.C. 1904(b)(3).

29. INVERSIONES MP, S.A., Panama; RUC #1603791-1-666816 (Panama) [SDNTK]. Designated for being owned, controlled, or directed by Nidal Ahmed WAKED HATUM, Gazy WAKED HATUM, and/or Ali WAKED HATUM, and therefore meets the criteria for designation pursuant to section 805(b)(3) of the Kingpin Act, 21 U.S.C. 1904(b)(3).

30. LA GRAN BODEGA, S.A., Panama; RUC #580601-1-448114 (Panama) [SDNTK]. Designated for being owned, controlled, or directed by Nidal Ahmed WAKED HATUM and/or Gazy WAKED HATUM, and therefore meets the criteria for designation pursuant to section 805(b)(3) of the Kingpin Act, 21 U.S.C. 1904(b)(3).

31. LA GRAN VIA ZONA LIBRE, S.A., Panama; RUC #26025-152-221903 (Panama); alt. RUC #26025-152-221909 (Panama) [SDNTK]. Designated for being owned, controlled, or directed by Gazy WAKED HATUM and/or Ali WAKED HATUM, and therefore meets the criteria for designation pursuant to section 805(b)(3) of the Kingpin Act, 21 U.S.C. 1904(b)(3).

32. LA RIVIERA, PANAMA, S.A., Panama; RUC #556399-1-444264 (Panama) [SDNTK]. Designated for being owned, controlled, or directed by Mohamed Abdo WAKED DARWICH and/or Lucia TOUZARD ROMO, and therefore meets the criteria for designation pursuant to section 805(b)(3) of the Kingpin Act, 21 U.S.C. 1904(b)(3).

33. LAGUNA MAR INTERNACIONAL, S.A., Panama; RUC #212214-1-397111 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

34. MADURO INTERNACIONAL, S.A., Panama; RUC #5651-184-69069 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

35. MALALA 786, S.A., Panama; RUC #2300164-1-789790 (Panama) [SDNTK]. Designated for being owned, controlled, or directed by Abdul Mohamed WAKED FARES, Mohamed Abdo WAKED DARWICH, and/or Lucia TOUZARD ROMO, and therefore meets the criteria for designation pursuant to section 805(b)(3) of the Kingpin Act, 21 U.S.C. 1904(b)(3).

36. MAWA ENTERPRISES, CORP., Panama; RUC #37255-145-266651 (Panama) [SDNTK]. Designated for being owned, controlled, or directed by Abdul Mohamed WAKED FARES, and therefore meets the criteria for designation pursuant to section 805(b)(3) of the Kingpin Act, 21 U.S.C. 1904(b)(3).

37. MEDAL INVERSIONES, S.A., Panama; RUC #62962-44-353646 (Panama) [SDNTK]. Designated for being owned, controlled, or directed by Nidal Ahmed WAKED HATUM and/or Gazy WAKED HATUM, and therefore meets the criteria for designation pursuant to section 805(b)(3) of the Kingpin Act, 21 U.S.C. 1904(b)(3).

38. NARANJO ABAJO, S.A., Panama; RUC #657-564-1462 (Panama); alt. RUC #657-564-14620 (Panama) [SDNTK]. Designated for being owned, controlled, or directed by Nidal Ahmed WAKED HATUM, Gazy WAKED HATUM, Jalal Ahmed WAKED HATUM, and/or Ali WAKED HATUM, and therefore meets the criteria for designation pursuant to section 805(b)(3) of the Kingpin Act, 21 U.S.C. 1904(b)(3).

39. NUTRISHOP, S.A., Panama; RUC #1013362-1-538789 (Panama) [SDNTK]. Designated for being owned, controlled, or directed by Jalal Ahmed WAKED HATUM, and therefore meets the criteria for designation pursuant to section 805(b)(3) of the Kingpin Act, 21 U.S.C. 1904(b)(3).

40. PANAMA BIG GAME FISHING, S.A., Panama; RUC #1538534-1-655100 (Panama) [SDNTK]. Designated for being owned, controlled, or directed by Gazy WAKED HATUM and/or Ali WAKED HATUM, and therefore meets the criteria for designation pursuant to section 805(b)(3) of the Kingpin Act, 21 U.S.C. 1904(b)(3).

41. PANAMA-CHILE INTERNACIONAL, S.A., Panama; RUC #883961-1-511666 (Panama) [SDNTK]. Designated for being owned, controlled, or directed by Nidal Ahmed WAKED HATUM, and therefore meets the criteria for designation pursuant to section 805(b)(3) of the Kingpin Act, 21 U.S.C. 1904(b)(3).

42. PANLI HOLDINGS, INC., Panama; RUC #144868-1-384842 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

43. PLAZA MILENIO, S.A. (a.k.a. MILLENNIUM PLAZA, S.A.), Panama; RUC #15280-1-366202 (Panama) [SDNTK]. Designated for being owned, controlled, or directed by Nidal Ahmed WAKED HATUM, Gazy WAKED HATUM, Jalal Ahmed WAKED HATUM, and/or Ali WAKED HATUM, and therefore meets the criteria for designation pursuant to section 805(b)(3) of the Kingpin Act, 21 U.S.C. 1904(b)(3).

44. RESCATES MARINOS, S.A., Panama; RUC #1192450-1-580499 (Panama) [SDNTK]. Designated for being owned, controlled, or directed by Nidal Ahmed WAKED HATUM and/or Norman Douglas CASTRO MONTOTO, and therefore meets the criteria for designation pursuant to section 805(b)(3) of the Kingpin Act, 21 U.S.C. 1904(b)(3).

45. RESIDENCIAL CANAL VIEW, S.A., Panama; RUC #22723-133-202910 (Panama) [SDNTK]. Designated for being owned, controlled, or directed by Gazy WAKED HATUM and/or Ali WAKED HATUM, and therefore meets the criteria for designation pursuant to section 805(b)(3) of the Kingpin Act, 21 U.S.C. 1904(b)(3).

46. SEGOVIA IMPORT & EXPORT CORP. (a.k.a. SEGOVIA IMPORT AND EXPORT CORP.), Panama; RUC #1153864-1-572287 (Panama) [SDNTK]. Designated for being owned, controlled, or directed by Nidal Ahmed WAKED HATUM, Gazy WAKED HATUM, and/or Ali WAKED HATUM, and therefore meets the criteria for designation pursuant to section 805(b)(3) of the Kingpin Act, 21 U.S.C. 1904(b)(3).

47. SERVICIO DE EQUIPO RODANTE INCORPORADO (a.k.a. SER INC.), Calle 16 y Ave. Roosevelt Edif. Vida Panama, Zona Libre, Colon, Panama; P.O. Box No. 1578, Zona Libre, Colon, Panama; RUC #16143-166-154062 (Panama) [SDNTK]. Designated for being owned, controlled, or directed by Nidal Ahmed WAKED HATUM and/or Gazy WAKED HATUM, and therefore meets the criteria for designation pursuant to section 805(b)(3) of the Kingpin Act, 21 U.S.C. 1904(b)(3).

48. SISTEMA CORESCO, S.A., Panama; RUC #59784-2-345231 (Panama); alt. RUC #1776589-1-345231 (Panama) [SDNTK]. Designated for being owned, controlled, or directed by Ali WAKED HATUM, and therefore meets the criteria for designation pursuant to section 805(b)(3) of the Kingpin Act, 21 U.S.C. 1904(b)(3).

49. SOHO DEVELOPERS, INC., Panama; RUC #2046910-1-747341 (Panama) [SDNTK]. Designated for being owned, controlled, or directed by WESTLINE ENTERPRISES, Abdul Mohamed WAKED FARES, and/or Mohamed Abdo WAKED DARWICH, and therefore meets the criteria for designation pursuant to section 805(b)(3) of the Kingpin Act, 21 U.S.C. 1904(b)(3).

50. SOHO PANAMA, S.A. (a.k.a. SOHO MALL PANAMA), Calle 50 (entre Calle 54 y 56), Panama, Panama; RUC #2422734-1-808115 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

51. TATUNG INTERNACIONAL, S.A., Panama; RUC #41534-72-284178 (Panama) [SDNTK]. Designated for being owned, controlled, or directed by Nidal Ahmed WAKED HATUM, and therefore meets the criteria for designation pursuant to section 805(b)(3) of the Kingpin Act, 21 U.S.C. 1904(b)(3).

52. TROLL PROPERTIES, INC., Panama; RUC #991715-1-534344 (Panama) [SDNTK]. Designated for being owned, controlled, or directed by Mohamed Abdo WAKED DARWICH, and therefore meets the criteria for designation pursuant to section 805(b)(3) of the Kingpin Act, 21 U.S.C. 1904(b)(3).

53. URBANIZACION ALHAMBRA, S.A., Panama; RUC #998416-1-535687 (Panama) [SDNTK]. Designated for being owned, controlled, or directed by Jalal Ahmed WAKED HATUM, Gazy WAKED HATUM, and/or Ali WAKED HATUM, and therefore meets the criteria for designation pursuant to section 805(b)(3) of the Kingpin Act, 21 U.S.C. 1904(b)(3).

54. V.P. PROPERTIES, INC., Panama; RUC #2384195-1-802594 (Panama) [SDNTK]. Designated for being owned, controlled, or directed by Nidal Ahmed WAKED HATUM, Gazy WAKED HATUM, Jalal Ahmed WAKED HATUM, and/or Ali WAKED HATUM, and therefore meets the criteria for designation pursuant to section 805(b)(3) of the Kingpin Act, 21 U.S.C. 1904(b)(3).

55. VISION 20-20, S.A., Panama; RUC #2107640-1-757913 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

56. WAKED INTERNACIONAL PANAMA, S.A., Panama; RUC #197517-1-394851 (Panama) [SDNTK]. Designated for being owned, controlled, or directed by Abdul Mohamed WAKED FARES and/or Lucia TOUZARD ROMO, and therefore meets the criteria for designation pursuant to section 805(b)(3) of the Kingpin Act, 21 U.S.C. 1904(b)(3).

57. WAREHOUSE OUTLETS, S.A., Panama; RUC #61872-33-350508 (Panama) [SDNTK]. Designated for being owned, controlled, or directed by Mohamed Abdo WAKED DARWICH and/or Lucia TOUZARD ROMO, and therefore meets the criteria for designation pursuant to section 805(b)(3) of the Kingpin Act, 21 U.S.C. 1904(b)(3).

58. WAYSIDE CORPORATION, Panama; RUC #10415-108-106338 (Panama) [SDNTK]. Designated for being owned, controlled, or directed by Abdul Mohamed WAKED FARES, Mohamed Abdo WAKED DARWICH, and/or Lucia TOUZARD ROMO, and therefore meets the criteria for designation pursuant to section 805(b)(3) of the Kingpin Act, 21 U.S.C. 1904(b)(3).

59. WESTLINE ENTERPRISES, INC., Panama; RUC #1351606-1-617448 (Panama) [SDNTK]. Designated for being owned, controlled, or directed by Abdul Mohamed WAKED FARES and/or Mohamed Abdo WAKED DARWICH, and therefore meets the criteria for designation pursuant to section 805(b)(3) of the Kingpin Act, 21 U.S.C. 1904(b)(3).

60. XZACT, INC., Panama; RUC #697297-1-467988 (Panama) [SDNTK]. Designated for being owned, controlled, or directed by Nidal Ahmed WAKED HATUM, and therefore meets the criteria for designation pursuant to section 805(b)(3) of the Kingpin Act, 21 U.S.C. 1904(b)(3).

61. BALBOA BANK & TRUST, CORP. (a.k.a. BALBOA BANK AND TRUST, CORP.), Edificio Balboa Bank & Trust, Calle 50 y Calle Beatriz Maria Cabal, Panama, Panama; SWIFT/BIC BTACPAPA; RUC #4199990-1-427208 (Panama) [SDNTK]. Designated for materially assisting in, or providing financial or technological support for or to, or providing goods or services in support of, the international narcotics trafficking activities of the WAKED MONEY LAUNDERING ORGANIZATION, Nidal Ahmed WAKED HATUM, and/or Abdul Mohamed WAKED FARES, and/or being owned, controlled, or directed by, or acting for or on behalf of, Nidal Ahmed WAKED HATUM, Abdul Mohamed WAKED FARES, and/or STRATEGIC INVESTORS GROUP, and therefore meets the criteria for designation pursuant to sections 805(b)(2) and/or (3) of the Kingpin Act, 21 U.S.C. 1904(b)(2) and/or (3).

62. BALBOA SECURITIES, CORP., Edificio Balboa Bank & Trust, Calle 50 y Calle Beatriz Maria Cabal, Panama, Panama; RUC #965431-1-528815 (Panama) [SDNTK]. Designated for being owned, controlled, or directed by STRATEGIC INVESTORS GROUP INC. and/or Nidal Ahmed WAKED HATUM, and therefore meets the criteria for designation pursuant to section 805(b)(3) of the Kingpin Act, 21 U.S.C. 1904(b)(3).

63. GRUPO W S.A. (a.k.a. HOMETEK), Pueblo Nuevo Calle 22 Edificio La Galera Local 8, Panama, Panama; RUC #4067941425327 (Panama) [SDNTK]. Designated for materially assisting in, or providing financial or technological support for or to, or providing goods or services in support of, the international narcotics trafficking activities of the WAKED MONEY LAUNDERING ORGANIZATION and/or Nidal Ahmed WAKED HATUM, and/or being owned, controlled, or directed by, or acting for or on behalf of, Gazy WAKED HATUM, Ali WAKED HATUM, Jalal Ahmed WAKED HATUM, and/or Nidal Ahmed WAKED HATUM, and therefore meets the criteria for designation pursuant to sections 805(b)(2) and/or (3) of the Kingpin Act, 21 U.S.C. 1904(b)(2) and/or (3).

64. GRUPO WISA, S.A. (a.k.a. LA RIVIERA), Calle 15 entre Avenida Santa Isabel y Avenida Roosevelt, Zona Libre de Colon, Colon, Panama; Torre Generali, Piso 11 y 12, Calle 54 Este y Avenida Samuel Lewis, Panama, Panama; Colombia; Guatemala; Belize; Costa Rica; El Salvador; Mexico; Bolivia; Honduras; Nicaragua; Uruguay; RUC #645451-1-458900 (Panama) [SDNTK]. Designated for materially assisting in, or providing financial or technological support for or to, or providing goods or services in support of, the international narcotics trafficking activities of the WAKED MONEY LAUNDERING ORGANIZATION and/or Abdul Mohamed WAKED FARES, and/or being owned, controlled, or directed by Abdul Mohamed WAKED FARES, and therefore meets the criteria for designation pursuant to sections 805(b)(2) and/or (3) of the Kingpin Act, 21 U.S.C. 1904(b)(2) and/or (3).

65. PERSHORE INVESTMENTS S.A., Edificio Balboa Bank & Trust, Calle 50 y Calle Beatriz Maria Cabal, Panama, Panama; RUC #1420780-1-631797 (Panama) [SDNTK]. Designated for being owned, controlled, or directed by STRATEGIC INVESTORS GROUP INC, BALBOA BANK & TRUST, and/or Nidal Ahmed WAKED HATUM, and therefore meets the criteria for designation pursuant to section 805(b)(3) of the Kingpin Act, 21 U.S.C. 1904(b)(3).

66. STRATEGIC INVESTORS GROUP INC. (a.k.a. SI GROUP), Edificio Balboa Bank & Trust, Calle 50 y Calle Beatriz Maria Cabal, Panama, Panama; RUC #1649734-1-675348 (Panama) [SDNTK]. Designated for materially assisting in, or providing financial or technological support for or to, or providing goods or services in support of, the international narcotics trafficking activities of the WAKED MONEY LAUNDERING ORGANIZATION, Nidal Ahmed WAKED HATUM, and/or Abdul Mohamed WAKED FARES, and/or being owned, controlled, or directed by Nidal Ahmed WAKED HATUM and/or Abdul Mohamed WAKED FARES, and therefore meets the criteria for designation pursuant to sections 805(b)(2) and/or (3) of the Kingpin Act, 21 U.S.C. 1904(b)(2) and/or (3).

67. STRATEGIC OIL CORP., Edificio Balboa Bank & Trust, Calle 50 y Calle Beatriz Maria Cabal, Panama, Panama; RUC #2432399-1-809429 (Panama) [SDNTK]. Designated for being owned, controlled, or directed by STRATEGIC INVESTORS GROUP INC. and/or Nidal Ahmed WAKED HATUM, and therefore meets the criteria for designation pursuant to section 805(b)(3) of the Kingpin Act, 21 U.S.C. 1904(b)(3).

68. VIDA PANAMA (ZONA LIBRE) S.A., Enrique A. Jimenez y Calle 16, Zona Libre de Colon, Colon, Panama; RUC #238590056210046 (Panama) [SDNTK]. Designated for materially assisting in, or providing financial or technological support for or to, or providing goods or services in support of, the international narcotics trafficking activities of the WAKED MONEY LAUNDERING ORGANIZATION and/or Nidal Ahmed WAKED HATUM, and/or being owned, controlled, or directed by Gazy WAKED HATUM, Ali WAKED HATUM, Jalal Ahmed WAKED HATUM, and/or Nidal Ahmed WAKED HATUM, and therefore meets the criteria for designation pursuant to sections 805(b)(2) and/or (3) of the Kingpin Act, 21 U.S.C. 1904(b)(2) and/or (3).

69. WAKED MONEY LAUNDERING ORGANIZATION, Panama [SDNTK]. Designated for playing a significant role in international narcotics trafficking, and therefore meets the criteria for designation pursuant to section 805(b)(4) of the Kingpin Act, 21 U.S.C. 1904(b)(4).

Dated: May 5, 2016.
John E. Smith,
Acting Director, Office of Foreign Assets Control.

[FR Doc. 2016-10944 Filed 5-9-16; 8:45 am]

BILLING CODE 4810-AL-P